FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than November 19, 2021.

A. Federal Reserve Bank of Minneapolis (Chris P. Wangen, Assistant Vice President), 90 Hennepin Avenue, Minneapolis, Minnesota 55480-0291. Comments can also be sent electronically to MA@mpls.frb.org:

1. Richard M. Wall, Eden Prairie, Minnesota, Elizabeth Wall Lee, Sunfish Lake, Minnesota, and John K. Wall, Wayzata, Minnesota; to retain voting shares of Highland Bancshares, Inc., and thereby indirectly retain voting shares of Highland Bank, both of Saint Michael, Minnesota.

In addition, Richard M. Wall, as trustee to the following trusts: The 2012 Grantor Trust for Richard M. Wall and Family dated 12/26/12, the Emilie Grace Wall 2020 Irrevocable Trust dated 12/26/20, the Ericka Marie Wall 2020 Irrevocable Trust dated 12/26/20, and the Julianna Karin Wall 2020 Irrevocable Trust dated 12/26/20; John K. Wall, as trustee to the following trusts: The 2012 Grantor Trust for John K. Wall and Family dated 12/26/12, the Lauren Wall 2020 Irrevocable Trust dated 12/26/20, and the Jack Wall 2020 Irrevocable Trust dated 12/26/20; and Elizabeth Wall Lee, as trustee to the following trusts: The 2012 Grantor Trust for Elizabeth W. Lee and Family dated 12/26/12, the Kevin Connor Lee 2020 Irrevocable Trust dated 12/26/20, and the Shannon Elizabeth Lee 2020 Irrevocable Trust dated 12/26/20, all of Minneapolis, Minnesota; to join the Wall Family Control Group, a group acting in concert, to acquire voting shares of Highland Bancshares, Inc., and thereby indirectly acquire voting shares of Highland Bank.

B. Federal Reserve Bank of St. Louis (Holly A. Rieser, Manager) P.O. Box 442, St. Louis, Missouri 63166-2034. Comments can also be sent electronically to Comments.applications@stls.frb.org:

1. The Samuel D. Gohn Irrevocable Trust, Kenneth Larry Joplin, trustee, both of West Plains, Missouri; to join the Gohn Family Control Group, a group acting in concert, to acquire voting shares of West Plains Bancshares, Inc., and thereby indirectly acquire voting shares of West Plains Bank and Trust Company, both of West Plains, Missouri.

Board of Governors of the Federal Reserve System, November 1, 2021.
Michele Taylor Fennell,
Deputy Associate Secretary of the Board.

[FR Doc. 2021-24111 Filed 11-3-21; 8:45 am]

BILLING CODE P